DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed new information collection. In accordance with the Paperwork Reduction Act of 1995, this notice seeks comments concerning the collection of information, which is necessary for assessment and improvement of the delivery of disaster assistance. The form serves as a survey tool used to evaluate customer perceptions of effectiveness, timeliness and satisfaction with FEMA Housing Inspection Services.

SUPPLEMENTARY INFORMATION: This collection is in accordance with Executive Order 12862 (September 11, 1993), that requires all Federal agencies to survey customers to determine the kind and quality of services they want and their level of satisfaction with existing services. In addition, the Government Performance and Results Act (GPRA) requires agencies to set missions and goals and measure performance against them. FEMA will fulfill these requirements, in part, by collecting customer service information through a survey of the FEMA Recovery Division's external customers.

Collection of Information

Title: Federal Emergency Management Agency Housing Inspection Services Customer Satisfaction Survey.

Type of Information Collection: New.

OMB Number: 1660-NW31.

Form Numbers: FEMA Form 86-26 (MW), SEP 04.

Abstract: FEMA Housing Inspection Services contracts inspectors to assess dwelling damage and verify personal information of applicants for FEMA disaster assistance in federally declared disasters areas. Because FEMA needs to evaluate the inspectors' performance, FEMA conducts surveys to measure the satisfaction level of the applicants with their inspection experience. FEMA Inspection Services Managers and Task Monitors generally use the survey results to gauge and make improvements to disaster services that increase customer satisfaction and program effectiveness. The information is shared with Regional staff specific to the federal declaration for which the survey is conducted.

Affected Public: Individuals or Households.

Estimated Total Annual Hour Burden:

Annual Hour Burden
Project/activity | Number of respondents | Frequency of responses | Hour burden per response (hours) | Annual responses | Total annual hour burden (hours)
| (A) | (B) | (C) | (D) = (A × B) | (E) = (C × D)
Survey | 10,608 | 1 | .25 | 10,608 | 2,652
Total | 10,608 | 1 | .25 | 10,608 | 2,652

Estimated Cost: There is no expected cost to the respondents. The estimated annual cost to the Federal Government is $193,750.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before May 7, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Christopher Trice, Program Analyst, Federal Emergency Management Agency, at 540-678-2109 for additional information. You may contact the Records Management Branch for copies of the proposed collection of information at facsimile number (202) 646-3347 or e-mail address: FEMA-Information-Collections@dhs.gov.

Dated: March 1, 2007.
John A. Sharetts-Sullivan,
Chief, Records Management and Privacy, Information Resources Management Branch, Information Technology Services Division, Federal Emergency Management Agency, Department of Homeland Security.

[FR Doc. E7-4161 Filed 3-7-07; 8:45 am]

BILLING CODE 9110-10-P